DEPARTMENT OF HOMELAND SECURITY

Federal Emergency Management Agency

Agency Information Collection Activities: Proposed Collection; Comment Request

AGENCY: Federal Emergency Management Agency, DHS.

ACTION: Notice and request for comments.

SUMMARY: The Federal Emergency Management Agency, as part of its continuing effort to reduce paperwork and respondent burden, invites the general public and other Federal agencies to take this opportunity to comment on a proposed continuing information collection. In accordance with the Paperwork Reduction Act of 1995, this notice seeks comments concerning the FEMA Mitigation Success Story database used to document experiences of States, communities, private businesses, and homeowner's information describing successful mitigation and flood insurance practices occurring in communities nationwide.

SUPPLEMENTARY INFORMATION: Consistent with performance-based management practices mandated by the Government Performance Results Act (GPRA), [MSOffice1]FEMA has outlined its critical functions to meet strategic goals and objectives, including the use of risk communication practices aimed at reducing the loss of life and property due to disasters. FEMA will partially fulfill these requirements by collecting and disseminating information describing successful mitigation and flood insurance practices occurring in communities nationwide. The Mitigation Success Stories database is one of several program strategies specifically addressing, strategic objective 1.4 [MSOffice2]which aims at helping individuals, local governments, States, Territories, tribal nations, and Federal agencies make good risk management decisions. The database is a tool that enables FEMA to translate hazard data into usable information for community risk management through risk communication.

Collection of Information

Title: FEMA Mitigation Success Story Database.

Type of Information Collection: Extension, without change of a currently approved collection.

OMB Number: 1660-0089.

Form Numbers: None.

Abstract: FEMA uses the information in the database to document and disseminate first-hand experiences of States, communities, private businesses, and homeowners that incorporate mitigation and flood insurance activities that are cost effective and promote strategic partnerships. By sharing information, communities and individuals can learn about available Federal programs to support the implementation of noteworthy local activities.

Affected Public: Individuals or households, business or other for-profit, not-for-profit institutions, farms, Federal Government, and State, Local or Tribal Government.

Estimated Total Annual Burden Hours:

Annual Hour Burden
Data collection activity/instrument | Number of respondents | Frequency of responses | Hour burden per response | Annual responses | Total annual burden hours
| (A) | (B) | (C) | (D) =(A × B) | ( C × D)
Electronic (Web site) | 15 | 1 | 1.5 | 15 | 23
Informal Interviews and Follow-up sessions | 135 | 1 | 4.0 | 135 | 540
Total | 150 | 1 | 5.5 | 150 | 563

Estimated Cost: The total estimated burden cost of individuals and households contributing potential stories, and for engineering consultants to review stories for credibility and accuracy, using wage rate categories is estimated to be $15,454. annually.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before August 27, 2007.

ADDRESSES: Interested persons should submit written comments to Chief, Records Management and Privacy, Information Resources Management Branch, Information Technology Services Division, Federal Emergency Management Agency, 500 C Street, SW., Room 609, Washington, DC 20472.

FOR FURTHER INFORMATION CONTACT: Contact Eugene Luke, Emergency Management Specialist, Mitigation Division, 202-646-4246 for additional information. You may contact the Records Management Branch for copies of the proposed collection of information at facsimile number (202) 646-3347 or e-mail address: FEMA-Information-Collections@dhs.gov.

Dated: 21 June 2007.
John A. Sharetts-Sullivan,
Chief, Records Management and Privacy, Information Resources Management Branch, Information Technology Services Division, Federal Emergency Management Agency, Department of Homeland Security.

[FR Doc. E7-12487 Filed 6-27-07; 8:45 am]

BILLING CODE 9110-12-P